NATIONAL SCIENCE FOUNDATION

Sunshine Act Meetings; National Science Board

The National Science Board's Committee on Strategy and Budget (CSB), pursuant to NSF regulations (45 CFR part 614), the National Science Foundation Act, as amended (42 U.S.C. 1862n-5), and the Government in the Sunshine Act (5 U.S.C. 552b), hereby gives notice of the scheduling of a teleconference for the transaction of National Science Board business, as follows:

DATE & TIME: Wednesday, March 18, 2015, 4:30-5:30 p.m. EDT.

SUBJECT MATTER: Discussion of Performance Improvement Officer Report on FY 2017 Strategic Issues.

STATUS: Closed.

This meeting will be held by teleconference. Please refer to the National Science Board Web site www.nsf.gov/nsb for additional information and schedule updates (time, place, subject matter or status of meeting) which may be found at http://www.nsf.gov/nsb/notices/. Point of contact for this meeting is Jacqueline Meszaros (jmeszaro@nsf.gov).

Ann Bushmiller,
Senior Counsel to the National Science Board.

[FR Doc. 2015-06155 Filed 3-13-15; 11:15 am]

BILLING CODE 7555-01-P